POSTAL SERVICE

39 CFR Part 111

Delivery Confirmation and Signature Confirmation Services With First-Class Mail and Package Services Mail

AGENCY: Postal Service.

ACTION: Proposed rule.

SUMMARY: This proposed rule would amend the Domestic Mail Manual (DMM) to clarify when it is permissible to use Delivery Confirmation service and Signature Confirmation service, particularly the limitation of these services to parcel-shaped mail for First-Class Mail and Package Services mail.

DATES: Submit comments on or before May 15, 2003.

ADDRESSES: Mail or deliver written comments to the Manager, Mailing Standards, ATTN: Neil Berger, U.S. Postal Service, 1735 N. Lynn Street, Room 3025, Arlington, VA 22209-6038. Written comments may be submitted via fax to 703-292-4058. Copies of all written comments will be available for inspection and photocopying between 9 a.m. and 4 p.m., Monday through Friday, at the Postal Service Headquarters Library, 475 L'Enfant Plaza SW., 11th Floor North, Washington, DC 20260-1540.

FOR FURTHER INFORMATION CONTACT: Neil Berger at (703) 292-3645.

SUPPLEMENTARY INFORMATION: Prior to the implementation of Docket No. R2001-1 on June 30, 2002, customers and shippers wanting to mail lightweight parcels weighing 13 ounces or less and receive Delivery Confirmation or Signature Confirmation service could not choose First-Class Mail, even though the parcels otherwise would qualify for First-Class Mail based on their weight.

The Postal Service proposed in its Docket No. R2001-1 Request to extend Delivery Confirmation and Signature Confirmation to First-Class Mail parcels as a way of providing all parcel customers and shippers the opportunity to benefit from Delivery Confirmation and Signature Confirmation services without affecting their choice of subclass. The Postal Service believed that this change would increase not only the customer value of those special services but also the customer value of First-Class Mail as an effective class of mail for sending and receiving lightweight merchandise in parcels.

The extension of the two special services to First-Class Mail parcels was implemented on June 30, 2002. 67 FR 18684-18771 (April 16, 2002). This extension provided parcel customers with Delivery Confirmation and Signature Confirmation options afforded other parcel shippers using Priority Mail, Standard Mail, or Package Services. With a wide range of classes of mail and subclasses now eligible for these two services, shippers now have greater flexibility in determining which class to use for their parcels in order to meet particular customer requirements.

Another change resulting from proposals in Docket No. R2001-1 was the restriction of Delivery Confirmation and Signature Confirmation to parcels within the Package Services class of mail, which comprises the four subclasses of Parcel Post (including Parcel Select), Bound Printed Matter, Media Mail, and Library Mail. See 67 FR 18694-95. This restriction reflects operational concerns about the way the various processing categories of mail are sorted, distributed, and delivered, and the ability to provide Delivery Confirmation and Signature Confirmation services consistently. Before that change, all Package Services mail was eligible to use Delivery Confirmation and Signature Confirmation services, even though the two services could not be effectively provided to flat-size mail.

Both the First-Class Mail and Package Services changes addressed operational difficulties in isolating letter-size and flat-size mail for purposes of Delivery Confirmation and Signature Confirmation scanning, as well as the goal of offering Delivery Confirmation and Signature Confirmation to all parcel-shaped mail. The restriction of the two special services to parcels within Package Services and First-Class Mail is in line with the need for the Postal Service to identify Delivery Confirmation and Signature Confirmation mailpieces for proper scanning by the delivery employee. Unlike letter-size mail and flat-size mail, Priority Mail (regardless of shape) and parcels of all other classes are held out at the delivery units and handled separately by clerks and carriers. This is not the case for letter-size and flat-size mail, which is generally processed on automated equipment and receives minimal manual handling, especially for firms that receive large quantities of mail daily.

For Delivery Confirmation, Signature Confirmation, and nearly all special services requiring accountability at the time of delivery such as a customer signature, parcels predominate. For the two conspicuous exceptions, Certified Mail and Registered Mail, the letter-size or flat-size mailpieces are designed and handled so that they are separated from other letter-size and flat-size mail before the point of handling in delivery operations. On the other hand, Delivery Confirmation and Signature Confirmation rely on manual separation of parcel mail and recognition of the special services on that mail by the postal employee at the delivery unit for proper handling.

In order to implement the Docket No. R2001-1 limitation of Delivery Confirmation and Signature Confirmation services to “parcel-shaped” mail, for all subclasses but Priority Mail, and to restrict Delivery Confirmation and Signature Confirmation to shapes that are readily identified for scanning, the Postal Service defined the term “parcel” in the Domestic Mail Manual (DMM) (sections C100.5.0 and C700.1.0h), with regard to using either of those two special services with First-Class Mail and Package Services mail, as follows:

a. Has an address side with enough surface area to fit the delivery address, return address, postage, markings and endorsements, and special service label; and,

b. Is in a box or, if not in a box, is more than ¾ inch thick at its thickest point.

Proposed Changes

This current definition of “parcel” has created some uncertainty, particularly within First-Class Mail with the definition of a box. The Postal Service therefore proposes a revision to this DMM language to clarify the definition of a “parcel.” The proposal uses, with some additions, the current mail processing category definitions in DMM C050 for machinable parcel, irregular parcel (a nonmachinable parcel), and outside parcel (a nonmachinable parcel). An outside parcel can consist of such items as automobile tires and partially wrapped nursery trees that are generally not placed entirely in a sack or other mailing container.

Until now, these parcel categories have been used only in conjunction with mail preparation standards for Standard Mail and Package Services mail and for the application of the nonmachinable surcharge to certain Parcel Post pieces. As presented in this proposed rule, the current definitions of a parcel are modified solely for the purposes of using Delivery Confirmation and Signature Confirmation services, including removing the 6-ounce minimum weight limit for so-called “machinable” parcels sent as First-Class Mail, and adding a rigidity requirement for machinable parcels measuring no more than ¾ inch thick. This proposal does not modify any of the criteria in DMM C050 as they currently apply to the definition of Standard Mail and Package Services parcel mail preparation.

By using the existing standards and readily known parcel definitions, the Postal Service would more clearly define what constitutes a parcel for purposes of Delivery Confirmation and Signature Confirmation services, and their use would reduce the subjectivity of determining what distinguishes a “box” from a “flat” or a “letter.” At the same time, while ensuring, by the use of current parcel definitions in the DMM, that letter-size mail and flat-size mail are not construed as a parcel, the proposed revision would also ensure that shippers would benefit from a wide range of dimensions for various types of parcels. For example, a machinable parcel can measure as little as 6 inches long and 3 inches high if it is more than ¼ inch thick. On the other hand, a Parcel Post outside parcel (nonmachinable) can weigh as much as 70 pounds and measure up to 130 inches in combined length and girth.

For the reasons above, the Postal Service proposes revising and clarifying the definition of a First-Class Mail parcel and a Package Services parcel solely for the purposes of using Delivery Confirmation or Signature Confirmation with either of those two mail classes. The proposed language adopts the current definitions in DMM C050 for the parcel mail processing category, and specifies some additional requirements to ensure that the services are available only for parcels if First-Class Mail or Package Services are used. For example, for machinable parcels measuring ¾ inch thick or less, only packaging that would maintain its parcel shape and integrity throughout processing and handling would be permitted.

Although exempt from the notice and comment requirements of the Administrative Procedure Act [5 U.S.C. of 553(b), (c)] regarding proposed rulemaking by 39 U.S.C. 410(a), the Postal Service invites public comment on the following proposed revisions to the Domestic Mail Manual, incorporated in the Code of Federal Regulations. See 39 CFR 111.1.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201'3219, 3403'3406, 3621, 3626, 5001.

2. Amend the following sections of the Domestic Mail Manual (DMM) as set forth below:

Domestic Mail Manual

* * * * *

C Characteristics and Content

* * * * *

[Amend C100 by removing current 5.0 and by redesignating current 6.0 as 5.0.]

C100 First-Class Mail

* * * * *

C700 Package Services

[Amend 1.0 by revising heading and by removing 1.0h.]

1.0 DIMENSIONS

* * * * *

S Special Services

* * * * *

S900 Special Postal Services

S910 Security and Accountability

* * * * *

S918 Delivery Confirmation

1.0 BASIC INFORMATION

* * * * *

[Revise 1.2 to read as follows:]

1.2 Eligible Matter

Delivery Confirmation service is available for First-Class Mail parcels defined in C050 as machinable, irregular, or outside parcels, with no minimum weight for such parcels; for all Priority Mail pieces; for Standard Mail pieces subject to the residual shape surcharge (electronic option only); and for Package Services parcels defined in C050 as machinable, irregular, and outside parcels. For the purposes of using Delivery Confirmation service with First-Class Mail and Package Services, a parcel must meet these additional requirements:

a. The surface area of the address side of the parcel must be large enough to contain completely and legibly the delivery address, return address, postage, and any applicable markings, endorsements, and special service labels.

b. Except as provided in 1.2c for machinable parcels, the parcel must be greater than ¾ inch thick at its thickest point.

c. If the mailpiece is a machinable parcel under DMM C050 and no greater than ¾ inch thick, the contents must be prepared in a strong and rigid fiberboard or similar container or in a container that becomes rigid after the contents are enclosed and the container secured. The parcel must be able to maintain its shape, integrity, and rigidity throughout processing and handling without collapsing into a letter-size or flat-size piece.

[Revise 1.3 to read as follows:]

1.3 Ineligible Matter

Delivery Confirmation service is not available for the following:

a. Express Mail and Periodicals pieces.

b. First-Class Mail letter-size and flat-size pieces.

c. Standard Mail pieces not subject to the residual shape surcharge and all Enhanced Carrier Route Standard Mail pieces.

d. Package Services flat-size pieces.

e. Mail paid with precanceled stamps.

f. Mail addressed to APO/FPO destinations.

g. Mail addressed to any U.S. territory, possession, or Freely Associated State listed in G011, with the exception of Puerto Rico and the U.S. Virgin Islands.

* * * * *

S919 Signature Confirmation

1.0 BASIC INFORMATION

* * * * *

[Revise 1.2 to read as follows:]

1.2 Eligible Matter

Signature Confirmation service is available for First-Class Mail parcels defined in C050 as machinable, irregular, or outside parcels, with no minimum weight for such parcels; for all Priority Mail pieces; and for Package Services parcels defined in C050 as machinable, irregular, and outside parcels. For the purposes of using Signature Confirmation service with First-Class Mail and Package Services, a parcel must meet these additional requirements:

a. The surface area of the address side of the parcel must be large enough to contain completely and legibly the delivery address, return address, postage, and any applicable markings, endorsements, and special service labels.

b. Except as provided in 1.2c for machinable parcels, the parcel must be greater than ¾ inch thick at its thickest point.

c. If the mailpiece is a machinable parcel under DMM C050 and no greater than ¾ inch thick, the contents must be prepared in a strong and rigid fiberboard or similar container or in a container that becomes rigid after the contents are enclosed and the container secured. The parcel must be able to maintain its shape, integrity, and rigidity throughout processing and handling without collapsing into a letter-size or flat-size piece.

[Revise 1.3 to read as follows:]

1.3 Ineligible Matter

Signature Confirmation service is not available for the following:

a. Express Mail, Periodicals, and Standard Mail.

b. First-Class Mail letter-size and flat-size pieces.

c. Package Services flat-size pieces.

d. Mail paid with precanceled stamps.

e. Mail addressed to APO/FPO destinations.

f. Mail addressed to any U.S. territory, possession, or Freely Associated State listed in G011, with the exception of Puerto Rico and the U.S. Virgin Islands.

* * * * *

An appropriate amendment to 39 CFR part 111 to reflect the changes will be published if this proposed rule is adopted.

Neva R. Watson,
Attorney, Legislative.

[FR Doc. 03-9194 Filed 4-14-03; 8:45 am]

BILLING CODE 7710-12-P